DEPARTMENT OF TRANSPORTATION

Research and Special Programs Administration

Office of Hazardous Materials Safety; Notice of Applications for Exemptions

AGENCY: Research and Special Programs Administration, DOT.

ACTION: List of applicants for exemptions.

SUMMARY: In accordance with the procedures governing the application for, and the processing of, exemptions from the Department of Transportation's Hazardous Materials Regulations (49 CFR part 107, subpart B), notice is hereby given that the Office of Hazardous Materials Safety has received the applications described herein. Each mode of transportation for which a particular exemption is requested is indicated by a number in the “Nature of Application” portion of the table below as follows: 1—Motor vehicle, 2—Rail freight, 3—Cargo vessel, 4—Cargo aircraft only, 5—Passenger-carrying aircraft.

DATES: Comments must be received on or before March 4, 2002.

ADDRESSES: Records Center, Research and Special Programs, Administration, U.S. Department of Transportation, Washington, DC 20590.

Comments should refer to the application number and be submitted in triplicate. If confirmation of receipt of comments is desired, include a self-addressed stamped postcard showing the exemption application number.

FOR FURTHER INFORMATION CONTACT: Copies of the applications (See Docket Number) are available for inspection at the New Docket Management Facility, PL-401, at the U.S. Department of Transportation, Nassif Building, 400 7th Street, SW., Washington, DC 20590 or at http://dms.dot.gov.

This notice of receipt of applications for new exemptions is published in accordance with part 107 of the Federal hazardous materials transportation law (49 U.S.C. 5117(b); 49 CFR 1.53(b)).

Issued in Washington, DC, on January 25, 2002.
R. Ryan Posten,
Exemptions Program Officer, Office of Hazardous Materials, Exemptions and Approvals.

New Exemptions
Application No. | Docket No. | Applicant | Regulation(s) affected | Nature of exemption thereof
12897-N | RSPA-02-11397 | ATK Thiokol Propulsion, Brigham City, UT | 49 CFR 173.242 | To authorize the transportation in commerce of ammonium perchlorate, Division 5.1, in DOT 53 portable tanks not presently authorized. (Modes 1, 2.)
12898-N | RSPA-02-11398 | SWS Environmental First Response, Panama City Beach, FL | 49 CFR 173.302, 173.304, 173.34 | To authorize the manufacturing, marking, sale and use of a non-DOT specification salvage cylinder for overpacking damage or leaking cylinders of pressurized and non-pressurized hazardous materials for transportation in commerce. (Mode 1.)
12899-N | RSPA-02-11387 | Pencor Reservoir Fluid Specialists, Broussard, LA | 49 CFR 173.201(c), 173.202(c), 173.203(c), 173.302(c), 173.302(a), 173.304(a) & (b), 175.3, 178.35(e) & (f), 178.36(a) & (b), (j), (1) | To authorize the manufacture, mark, sale and use of non-DOT specification cylinders comparable to DOT Specification 3A cylinders for use in transporting Division 2.1, 2.2 and Class 3 material. (Modes 1, 2, 3, 4.)
12902-N | RSPA-02-11389 | C&S Railroad Corp., Jim Thrope, PA | 49 CFR 174.85(a) | To authorize the transportation in commerce of rail cars with alternative spacing between the locomotive and cars carrying hazardous materials. (Mode 2.)
12903-N | RSPA-02-11390 | Cargill Inc., Minneapolis, MN | 49 CFR 179.13 | To authorize the transportation in commerce of Class 3 material in DOT Specification 111A100W1 tank cars having a maximum gross weight of 286,000 pounds. (Mode 2.)
12904-N | RSPA-02-11388 | Chemex Corp., San Juan, PR | 49 CFR 179.13 | To authorize the transportation in commerce of Class 3 material in DOT Specification 111A100W1 tank cars having a maximum gross weight of 286,000 pounds. (Mode 2.)
12905-N | RSPA-02-11384 | Railway Progress Institute, Inc. Alexandria, VA | 49 CFR 172.203(a), 172.302(c), 173.22a(a) & (b), 179.100-20(a), 179.200-24(a) & (b), 179.201-10(a), 179.220-25 | To authorize the transportation in commerce of various hazardous materials on rail cars without the required head stamping and without the exemption number on the rail car or the shipping paper. (Mode 2.)

[FR Doc. 02-2352 Filed 1-30-02; 8:45 am]

BILLING CODE 4910-60-M